DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Manufacturers' Shipments, Inventories, and Orders to the Department of Defense.

Form Number(s): M3-DOD, M3-DOD(I).

OMB Control Number: None.

Type of Request: New collection.

Burden Hours: 2,500.

Number of Respondents: 5,000.

Average Hours Per Response: 30 minutes.

Needs and Uses: The Manufacturers' Shipments, Inventories, and Orders (M3) survey collects monthly data on shipments, inventories, and orders from domestic manufacturing companies. The purpose of the M3 survey is to provide early broad-based monthly statistical data on current economic conditions and indications of future production commitments in the manufacturing sector. The orders, as well as the shipments and inventory data, are used widely and are valuable tools for analysis of business cycle conditions. Major data users include: members of the Council of Economic Advisers (CEA), Bureau of Economic Analysis (BEA), Federal Reserve Board (FRB), Conference Board, Treasury Department, and the business community.

The monthly M3 reflects primarily the month-to-month changes of companies within the survey. The M3 survey collects data for 89 industry categories of which 13 provide defense and non-defense allocations. Those industries include: Small Arms and Ordnance; Communications Equipment; Search and Navigation Equipment; Aircraft; Aircraft Engine and Parts; Missile, Space Vehicle, and Parts Manufacturing; and Ship and Boat Building.

The link relative estimator used in the M3 is not self-correcting. A minor error in the series can be magnified by the multiplicative effect of the estimator. Over time, the M3 estimates can be significantly different than the true universe levels. Consequently, there is a need to re-establish these universe levels on a periodic basis. The Annual Survey of Manufactures (ASM) provides annual benchmarks for the shipments and inventory data for the M3 survey; however, the ASM does not distinguish between defense and non-defense activities. The last collection instrument used to benchmark defense and non-defense data was the Shipments to Federal Agencies Benchmark Survey (MA-9675) conducted in 1992. Since the defense industries have dramatically changed, it is necessary to conduct a benchmark survey to obtain a current allocation of data between defense and non-defense manufacturing activities for the M3 universe levels.

The Manufacturers' Shipments, Inventories, and Orders to the Department of Defense (M3DOD) survey will collect 2006 and 2007 shipments, inventories, and unfilled orders data from domestic manufacturing companies that encompass defense manufacturing activities. This survey will be conducted every five years to provide correct benchmark levels and preserve the integrity of the estimates for the M3 survey, especially for the closely watched non-defense capital goods series. The monthly M3 data will be adjusted based on the results of the M3DOD survey.

The M3DOD survey will provide up-to-date shipments, unfilled orders, and inventories data to domestic manufacturing establishments that encompass defense and non-defense manufacturing activities. During the M3's benchmarking process, the data will be applied to adjust shipments, unfilled orders, and inventories for selected M3 industries on a NAICS basis. The M3's current universe will be recalibrated to a new level reflecting the most recent economic condition of defense and non-defense sectors. Once revisions are finalized, the benchmark will take place, revising the M3's historical time series beginning with 1992 for defense and non-defense sectors. The benchmark report will be released to the public electronically. The M3's data users will have more accurate data reflecting short and long-term trends in these manufacturing sectors.

The value of shipments, especially when adjusted for change in inventory, measures current levels of production. Changes in the level of unfilled orders, because of excess or shortfall of new orders compared with shipments, are used to measure the excess (or deficiency) in the demand for manufactured products. Changes in the level of inventories and the relation of these to shipments are used to project future movements in manufacturing activity. These statistics are valuable for analysts of business cycle conditions, including members of the CEA, BEA, FRB, Department of Treasury, business firms, trade associates, private research and consulting agencies, and the academic community.

Affected Public: Business or other for-profit.

Frequency: Every five years.

Respondent's Obligation: Mandatory.

Legal Authority: The M3DOD survey will be conducted on a mandatory basis under the authority of Title 13, United State Code, Sections 131, 182, 193 and 224.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov ).

Written comments and recommendations for the proposed information collection should be sent within 30 days of publication of this notice to Brian Harris-Kojetin, OMB Desk Officer either by fax (202-395-7245) or e-mail (bharrisk@omb.eop.gov).

Gwellnar Banks,
Management Analyst, Office of the Chief Information Officer.

[FR Doc. E8-18650 Filed 8-12-08; 8:45 am]

BILLING CODE 3510-07-P